DEPARTMENT OF AGRICULTURE

Office of the Assistant Secretary for Civil Rights; Notice of Intent To Seek Approval of a New Information Collection; Correction

AGENCY: Office of the Assistant Secretary for Civil Rights, U.S. Department of Agriculture.

ACTION: Notice; correction.

SUMMARY: The Office of the Assistant Secretary for Civil Rights, U.S. Department of Agriculture published a document in the Federal Register of May 13, 2009, concerning request for comments on the notice of intent to seek approval of a new information collection. The published document requires clarification on what demographic information is being collected from the public and the method used to collect that data. The collection of information has been narrowed to focus only on race, ethnicity, and gender and will not include national origin, age, or disability. Further, the information collection process will not include a tear-off form as stated in the May 13, 2009, document.

DATES: We will consider comments that we receive by July 31, 2009.

FOR FURTHER INFORMATION CONTACT: Winona Scott, Acting Director, Planning, Performance and Accountability Division, phone (202) 401-3648.

In the Federal Register of May 13, 2009, in FR Doc E9 -11109, on page 22509, make the following corrections:

In the first column, correct paragraph one, line 11 to read:

“* * * consolidating the race, ethnicity and sex data for agencies within the * * *”

SUPPLEMENTARY INFORMATION:

Correction

In the second column, correct paragraph four, to read:

The goal of this data collection is to obtain information from agricultural landowners and producers, in particular, socially disadvantaged farmers and ranchers that will be used to improve the operation of this program, to help USDA design additional opportunities for program participation, and to monitor enforcement of laws that require equal access to this program for eligible persons.

In the second column, delete paragraphs five and six.

In the third column, delete paragraph one.

In the third column, correct paragraph five, line one to read:

Abstract: The purpose of the collection is to enable the agency heads to report annually to the Secretary of Agriculture on the collection of race, ethnicity and sex data for all agricultural producers and landowners.

In the third column, correct paragraph six, line three to read:

“* * * estimated burden is 2 minutes per * * *”

In the third column, correct paragraph nine, line two to read:

Respondents: 466,666 hours.

Dated: June 15, 2009.
Joe Leonard, Jr.,
Assistant Secretary for Civil Rights.

[FR Doc. E9-14444 Filed 6-18-09; 8:45 am]

BILLING CODE 3410-98-P